OFFICE OF PERSONNEL MANAGEMENT

Privacy Act of 1974; Computer Matching Program Between the Office of Personnel Management and Social Security Administration

AGENCY: Office of Personnel Management (OPM).

ACTION: Notice of a re-established matching program.

SUMMARY: Pursuant to the Privacy Act of 1974, as amended by the Computer Matching and Privacy Protection Act of 1988 and the Computer Matching and Privacy Protections Amendment of 1990 (Privacy Act), and Office of Management and Budget (OMB) guidance on the conduct of matching programs, notice is hereby given of the re-establishment of a matching program between the Office of Personnel Management (OPM) and the Social Security Administration (SSA) (Computer Matching Agreement 1071).

DATES: Please submit comments on or before April 26, 2019. The matching program will begin on April 26, 2019 unless comments have been received from interested members of the public that require modification and republication of the notice. The matching program will continue for 18 months from the beginning date and may be extended an additional 12 months if the respective agency Data Integrity Boards determine that the conditions specified in 5 U.S.C. 552a(o)(2)(D) have been met.

ADDRESSES: You may submit comments via mail to: Deon Mason, Chief, Business Services, Resource Management, Retirement Services, Office of Personnel Management, Room 3316-G, 1900 E Street NW, Washington, DC 20415, or via email at Deon.Mason@opm.gov. You may also submit comments, identified by docket number and title, at the Federal Rulemaking Portal: http://www.regulations.gov by following the instructions for submitting comments.

All submissions received must include the agency name and docket number for this document. The general policy for comments and other submissions from members of the public is to make these submissions available for public viewing at http://www.regulations.gov as they are received without change, including any personal identifiers or contact information.

FOR FURTHER INFORMATION CONTACT: Bernard A. Wells III, Retirement Services, Office of Personnel Management, at (202) 606-2730.

SUPPLEMENTARY INFORMATION: In accordance with the Privacy Act of 1974, as amended by the Computer Matching and Privacy Protection Act of 1988 and the Computer Matching and Privacy Protections Amendment of 1990 (Privacy Act), and Office of Management and Budget (OMB) guidance on the conduct of matching programs, including OMB Final Guidance Interpreting the Provisions of Public Law 100-53 (published in the Federal Register on June 19, 1989 (54 FR 25818) and OMB Circular A-108, notice is hereby given of the re-establishment of a matching program between the Office of Personnel Management (OPM) and the Social Security Administration (SSA). This matching program, Computer Matching Agreement 1071, is being re-established to enable OPM to offset specific benefits paid to disability annuitants, child survivor annuitants, and spousal survivor annuitants by a percentage of benefits payable by SSA under Title II of the Social Security Act, as required by law.

Participating Agencies: OPM and SSA

Authority for Conducting the Matching Program: OPM's authority to participate in this matching program derives from 5 U.S.C. 8442(f), 8443(a), 8452(a)(2)(A), and 8461(h)(1). SSA is authorized to participate in this matching program pursuant to 42 U.S.C. 1306.

Purpose(s): The purpose of this matching program between OPM and SSA is to assist OPM in meeting its legal obligation to offset specific benefits payable by OPM to disability annuitants, child survivor annuitants, and spousal survivor annuitants. SSA will disclose to OPM benefit information regarding individuals who receive benefits from SSA under Title II of the Social Security Act, which OPM will use to determine an individual's eligibility to receive benefits from OPM and to compute the benefits it provides at the correct rate.

Categories of Individuals: The individuals about whom OPM maintains information that are involved in this matching program include retired Federal employees who are eligible or potentially eligible to receive a disability annuity from OPM (disability annuitants), and surviving children and surviving spouses of those disability annuitants who are themselves eligible or potentially eligible to receive an annuity from OPM. The individuals about whom SSA maintains information that is involved in this matching program include those who receive benefits from SSA under Title II of the Social Security Act.

Category of Records: The categories of records involved in the data match from OPM include information about those individuals who have applied for or are eligible or potentially eligible for disability annuitant benefits. Specifically, full name, Social Security number (SSN), date of birth, and a system indicator required to extract information from SSA's systems. For those individuals for whom SSA has a record, SSA will provide OPM with information about an individual's beneficiary status and any associated benefit information; for those individuals for whom SSA cannot match the SSN, SSA will return an appropriate code to OPM.

System(s) of Records: OPM's system of records involved in this matching program is designated OPM/Central-1, Civil Service Retirement and Insurance Records. 64 FR 54930 (Oct. 8, 1999), as amended at 73 FR 15013 (March 20, 2008). SSA's systems of records involved in this matching program are the Master Files of Social Security Number Holders and SSN Applications, 60-0058, 75 FR 82121 (Dec. 29, 2010) as amended at 78 FR 40542 (July 5, 2013) and 79 FR 8780 (Feb. 13, 2014); and the Master Beneficiary Record (MBR), 60-0090, 71 FR 1826 (Jan. 11, 2006), as amended at 72 FR 69723 (Dec. 10, 2007) and 78 FR 40542 (July 5, 2013).

Office of Personnel Management.
Alexys Stanley,
Regulatory Affairs Analyst.

[FR Doc. 2019-05797 Filed 3-26-19; 8:45 am]

BILLING CODE 6325-38-P